DEPARTMENT OF TRANSPORTATION

Federal Aviation Administration

14 CFR Part 39

[Docket No. 2001-NM-253-AD; Amendment 39-12633; AD 2002-02-05]

RIN 2120-AA64

Airworthiness Directives; Airbus Model A300 B2 and A300 B4; A300 B4-600, B4-600R, and F4-600R (Collectively Called A300-600); and Model A310 Series Airplanes

AGENCY: Federal Aviation Administration, DOT.

ACTION: Final rule.

SUMMARY: This amendment adopts a new airworthiness directive (AD), applicable to certain Airbus Model A300 B2 and A300 B4; A300 B4-600, B4-600R, and F4-600R (collectively called A300-600); and A310 series airplanes. This AD requires repetitive overhaul, including associated modifications, of the ram air turbine (RAT). This action is necessary to prevent failure of the RAT to deploy or operate properly in the event of an emergency, which could result in reduced hydraulic pressure or electrical power on the airplane. This action is intended to address the identified unsafe condition.

DATES: Effective March 19, 2002.

The incorporation by reference of certain publications listed in the regulations is approved by the Director of the Federal Register as of March 19, 2002.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Airbus Model A300 B2 and A300 B4; A300 B4-600, B4-600R, and F4-600R (collectively called A300-600); and A310 series airplanes; was published in the Federal Register on November 19, 2001 (66 FR 57900). That action proposed to require repetitive overhaul, including associated modifications, of the ram air turbine (RAT).

Comments

Interested persons have been afforded an opportunity to participate in the making of this amendment. No comments were submitted in response to the proposal or the FAA's determination of the cost to the public.

Conclusion

The FAA has determined that air safety and the public interest require the adoption of the rule as proposed.

Cost Impact

The FAA estimates that 153 Model A300 B2 and A300 B4; A300 B4-600, B4-600R, and F4-600R (collectively called A300-600); and Model A310 series airplanes; of U.S. registry will be affected by this AD. It will take approximately 4 work hours per airplane to remove and replace the RAT, at an average labor rate of $60 per work hour. Incorporation of the various modifications that will be required to complete the required overhaul at the overhaul facility will cost an average of approximately $67,500 per airplane, based on vendor-supplied information. Based on these figures, the average cost impact of the requirements of this AD on U.S. operators is estimated to be $67,740 per airplane, per overhaul.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-02-05 Airbus Industrie: Amendment 39-12633. Docket 2001-NM-253-AD.

Applicability: Model A300 B2 and A300 B4; A300 B4-600, B4-600R, and F4-600R (collectively called A300-600); and Model A310 series airplanes; certificated in any category; equipped with Dowty or Hamilton Sundstrand ram air turbines (RATs).

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent failure of the ram air turbine (RAT) to deploy or operate properly in the event of an emergency, which could result in reduced hydraulic pressure or electrical power on the airplane, accomplish the following:

Overhaul

(a) Prior to the accumulation of 20 years since the date of manufacture of the airplane, or within 2 years after the date of this AD, whichever occurs later: Overhaul the RAT in accordance with Airbus Service Bulletin A300-29-0118, dated April 20, 2001 (for Model A300 B2 and A300 B4 series airplanes); A300-29-6049, Revision 02, dated September 10, 2001 (for Model A300-600 series airplanes); or A310-29-2087, dated April 20, 2001 (for Model A310 series airplanes); as applicable. Thereafter, repeat the overhaul at least every 20 years, in accordance with the applicable service bulletin.

Note 2: Accomplishment prior to the effective date of this AD of the overhaul in accordance with Airbus Service Bulletin A300-29-6049, dated April 20, 2001, or Revision 01, dated July 23, 2001, is acceptable for compliance with the initial overhaul requirement of paragraph (a) of this AD.

Note 3: The service bulletins identified in paragraph (a) of this AD refer to Hamilton Sundstrand Service Bulletins 730816-29-12, ERPS26T-29-4, and 732365-29-4 as additional sources of service information for the overhaul actions.

Concurrent Modification Requirements

(b) Prior to or concurrently with the overhaul required by paragraph (a) of this AD, perform the applicable modifications specified in the following table:

Table 1.—Concurrent Modifications
For model— | Modify the airplane by— | In accordance with— | Which refers to the following additional source of service information:
(1) A300 series airplanes | (i) Installing a grease nipple and a scraper seal assembly and replacing the locking rod spring with a stronger spring | Airbus Service Bulletin A300-29-0106, Revision 04, dated March 22, 2001 | Hamilton Sundstrand Service Bulletin ERPS26T-29-1.
| (ii) Replacing the RAT with a modified RAT | Airbus Service Bulletin A300-29-0115, Revision 01, dated June 28, 2000 | Hamilton Sundstrand Service Bulletin ERPS26T-29-2.
(2) A300-600 series airplanes | (i) Replacing the RAT blade release cable and sheath and modifying the RAT identification plate | Airbus Service Bulletin A300-29-6004, dated January 31, 1985, including Change Notice O.A., dated June 9, 1987 | Hamilton Sundstrand Service Bulletin 732365-29-1.
| (ii) Modifying the RAT | Airbus Service Bulletin A300-29-6005, Revision 1, dated September 2, 1986 | Hamilton Sundstrand Service Bulletin 732365-29-2.
| (iii) Installing a grease nipple andn a scraper seal assembly and replacing the locking rod spring with a stronger spring | Airbus Service Bulletin A300-29-6039, Revision 04, dated March 22, 2001 | Hamilton Sundstrand Service Bulletin ERPS26T-29-1.
| (iv) Replacing the RAT with a modified RAT | Airbus Service A300-29-6046, Revision 02, dated June 28, 2000 | Hamilton Sundstrand Service Bulletin ERPS26T-29-2.
(3) A310 series airplanes | (i) Reidentifying RATs and RAT assemblies thatare in good condition, performing functional tests, and reidentifying certain RATs | Airbus Service A310-29-2003, dated January 20, 1984 | [reserved]
| (ii) Replacing the blade release cablel and sheath and modifying the RAT identification plate | Airbus Service A310-29-2008, dated January 31, 1985, including Change Notice O.A., dated October 6, 1987 | Hamilton Sundstrand Service Bulletin 730816-29-9.
| (iii) Modifying the RAT | Airbus Service Bulletin A310-29-2011, Revision 1, dated September 2, 1986 | Hamilton Sundstrand Service Bulletin 730816-29-10.
| (iv) Installing a grease nipple and a scraper seal assembly and replacing the locking rod spring with a stronger spring | Airbus Service Bulletin A310-29-2078, Revision 04, dated March 22, 2001 | Hamilton Sundstrand Service Bulletin ERPS26T-29-1.
| (v) Modifying the RAT | Airbus Service Bulletin A310-29-2084, Revision 02, dated June 28, 2000 | Hamilton Sundstrand Service Bulletin ERPS26T-29-2.

Note 4: The following Airbus service bulletins are also acceptable for compliance with the applicable requirements of paragraph (b) of this AD:

A300-29-0106, Revision 01, dated September 8, 1997; Revision 02, dated January 26, 1999; and Revision 03, dated June 28, 2000.

A300-29-0115, dated September 14, 1998.

A300-29-6003, dated January 31, 1985.

A300-29-6005, dated June 21, 1985.

A300-29-6039, Revision 01, dated September 8, 1997; Revision 02, dated January 26, 1999; and Revision 03, dated June 28, 2000.

A300-29-6046, dated September 14, 1998; and Revision 01, dated December 16, 1998.

A310-29-2011, dated June 21, 1985.

A310-29-2078, Revision 01, dated September 8, 1997; Revision 02, dated January 26, 1999; and Revision 03, dated June 28, 2000.

A310-29-2084, dated September 14, 1998; and Revision 01, dated December 16, 1998.

Alternative Methods of Compliance

(c) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 5: Information concerning the existence of approved alternative methods of compliance with this AD, if any, may be obtained from the International Branch, ANM-116.

Special Flight Permits

(d) Special flight permits may be issued in accordance with §§ 21.197 and 21.199 of the Federal Aviation Regulations (14 CFR 21.197 and 21.199) to operate the airplane to a location where the requirements of this AD can be accomplished.

Incorporation by Reference

(e) The actions shall be done in accordance with Airbus Service Bulletin A300-29-0106, Revision 04, dated March 22, 2001; Airbus Service Bulletin A300-29-0115, Revision 01, dated June 28, 2000; Airbus Service Bulletin A300-29-0118, dated April 20, 2001; Airbus Service Bulletin A300-29-6003, dated January 31, 1985, including Change Notice O.A., dated June 9, 1987; Airbus Service Bulletin A300-29-6005, Revision 1, dated September 2, 1986; Airbus Service Bulletin A300-29-6039, Revision 04, dated March 22, 2001; Airbus Service Bulletin A300-29-6046, Revision 02, dated June 28, 2000; Airbus Service Bulletin A300-29-6049, Revision 02, dated September 10, 2001; Airbus Service Bulletin A310-29-2003, dated January 20, 1984; Airbus Service Bulletin A310-29-2008, dated January 31, 1985, including Change Notice O.A., dated October 6, 1987; Airbus Service Bulletin A310-29-2011, Revision 1, dated September 2, 1986; Airbus Service Bulletin A310-29-2078, Revision 04, dated March 22, 2001; Airbus Service Bulletin A310-29-2084, Revision 02, dated June 28, 2000; and Airbus Service Bulletin A310-29-2087, dated April 20, 2001; as applicable. Revision 1 of Airbus Service Bulletin A300-29-6005 contains the following effective pages:

Page No. | Revision level shown on page | Date shown on page
1, 2 | 1 | Sept. 2, 1986.
3 | Original | June 21, 1985.

Revision 1 of Airbus Service Bulletin A310-29-2011 contains the following effective pages:

Page No. | Revision level shown on page | Date shown on page
1, 2 | 1 | Sept. 2, 1986.
3, 4 | Original | June 21, 1985.

This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 6: The subject of this AD is addressed in French airworthiness directive 2001-212(B), dated May 30, 2001.

Effective Date

(f) This amendment becomes effective on March 19, 2002.

Issued in Renton, Washington, on January 30, 2002.
Ali Bahrami,
Acting Manager, Transport Airplane Directorate, Aircraft Certification Service.

[FR Doc. 02-2926 Filed 2-11-02; 8:45 am]

BILLING CODE 4910-13-P